ENVIRONMENTAL PROTECTION AGENCY

40 CFR Parts 61 and 63

[NM-40-2-7445b; FRL-7598-7]

Approval of the Clean Air Act Section 112(l) Program for Hazardous Air Pollutants and Delegation of Authority to the State of New Mexico

AGENCY: Environmental Protection Agency (EPA).

ACTION: Proposed rule.

SUMMARY: The New Mexico Environment Department (NMED) has submitted updated regulations for receiving delegation of EPA authority for implementation and enforcement of National Emission Standards for Hazardous Air Pollutants (NESHAPs) for all sources (both part 70 and non-part 70 sources). These regulations apply to certain NESHAPs promulgated by EPA, as amended through September 1, 2001 and September 1, 2002. The delegation of authority under this action does not apply to sources located in Bernalillo County, New Mexico or sources located in Indian Country. EPA is providing notice proposing to approve the delegation of certain NESHAPs to NMED.

DATES: Written comments must be received by January 12, 2004.

ADDRESSES: Comments must be submitted to Mr. Jeffery Robinson, Air Permits Section, Multimedia Planning and Permitting Division (6PD-R), U.S. Environmental Protection Agency, Region 6, 1445 Ross Avenue, Suite 700, Dallas, Texas 75202-2733. Comments may also be submitted electronically or through hand delivery/courier by following the detailed instructions in section I.C-I.F of the Supplementary Information section of the direct final rule located in the Rules section of this Federal Register.

FOR FURTHER INFORMATION CONTACT: Mr. Jeffery Robinson, Air Permits Section, Multimedia Planning and Permitting Division (6PD-R), U.S. Environmental Protection Agency, Region 6, 1445 Ross Avenue, Suite 700, Dallas, Texas 75202-2733, at (214) 665-6435, or at robinson.jeffrey@epa.gov.

SUPPLEMENTARY INFORMATION: In the final rules section of this Federal Register, EPA is approving NMED's request for delegation of authority to implement and enforce certain NESHAPs for all sources (both part 70 and non-part 70 sources). NMED has adopted certain NESHAPs by reference into New Mexico's state regulations. In addition, EPA is waiving its notification requirements so sources will only need to send notifications and reports to NMED.

The EPA is taking direct final action without prior proposal because EPA views this as a noncontroversial action and anticipates no adverse comments. A detailed rationale for this approval is set forth in the preamble to the direct final rule. If no adverse comments are received in response to this action rule, no further activity is contemplated. If EPA receives adverse comments, the direct final rule will be withdrawn, and all public comments received will be addressed in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment. For additional information, see the direct final rule which is published in the Rules section of this Federal Register.

Dated: November 26, 2003.
Lynda F. Carroll,
Acting Regional Administrator, Region 6.

[FR Doc. 03-30709 Filed 12-10-03; 8:45 am]

BILLING CODE 6560-50-P